ENVIRONMENTAL PROTECTION AGENCY

40 CFR Part 63

[EPA-HQ-OAR-2013-0290 and EPA-HQ-OAR-2013-0291; FRL-9921-25-OAR]

RIN 2060-AP69

NESHAP for Brick and Structural Clay Products Manufacturing; and NESHAP for Clay Ceramics Manufacturing

AGENCY: Environmental Protection Agency.

ACTION: Supplemental notice of proposed rulemaking; extension of public comment period and change to public hearing date.

SUMMARY: On December 18, 2014, the Environmental Protection Agency (EPA) proposed national emission standards for hazardous air pollutants (NESHAP) for brick and structural clay products manufacturing and NESHAP for clay ceramics manufacturing. The EPA is extending the deadline for written comments on the proposed rule by 30 days to March 19, 2015. In addition, the EPA is changing the date of the public hearing, if requested, to January 27, 2015, and the date to pre-register for the hearing if it is held.

DATES: Comments. The public comment period for the proposed rule published in the Federal Register on December 18, 2014 (79 FR 75622) is being extended for 30 days to March 19, 2015.

Public Hearing. If anyone contacts the EPA requesting a public hearing by January 15, 2015, the EPA will hold a public hearing on January 27, 2015, from 1:00 p.m. [Eastern Standard Time] to 5:00 p.m. [Eastern Standard Time] at the U.S. Environmental Protection Agency building located at 109 T.W. Alexander Drive, Research Triangle Park, NC 27711. If the EPA holds a public hearing, the EPA will keep the record of the hearing open for 30 days after completion of the hearing to provide an opportunity for submission of rebuttal and supplementary information.

ADDRESSES: Comments. Written comments on the proposed rule may be submitted to the EPA electronically, by mail, by facsimile or through hand delivery/courier. Please refer to the proposal for the addresses and detailed instructions.

Docket. The EPA has established dockets for this rulemaking under Docket ID No. EPA-HQ-OAR-2013-0291 for Brick and Structural Clay Products Manufacturing and Docket ID No. EPA-HQ-OAR-2013-0290 for Clay Ceramics Manufacturing. All documents in the dockets are listed in the regulations.gov index. Although listed in the index, some information is not publicly available, e.g., CBI or other information whose disclosure is restricted by statute. Certain other material, such as copyrighted material, is not placed on the Internet and will be publicly available only in hard copy. Publicly available docket materials are available either electronically in regulations.gov or in hard copy at the EPA Docket Center, EPA WJC West Building, Room 3334, 1301 Constitution Ave. NW., Washington, DC. The Public Reading Room is open from 8:30 a.m. to 4:30 p.m., Monday through Friday, excluding legal holidays. The telephone number for the Public Reading Room is (202) 566-1744 and the telephone number for the EPA Docket Center is (202) 566-1742.

Public Hearing. If requested by January 15, 2015, the EPA will hold a public hearing on January 27, 2015, from 1:00 p.m. [Eastern Standard Time] to 5:00 p.m. [Eastern Standard Time] at the U.S. Environmental Protection Agency building located at 109 T.W. Alexander Drive, Research Triangle Park, NC 27711. Please contact Ms. Pamela Garrett of the Sector Policies and Programs Division (D243-01), Office of Air Quality Planning and Standards, Environmental Protection Agency, Research Triangle Park, NC 27711; telephone number: (919) 541-7966; email address: garrett.pamela@epa.gov to request a hearing, register to speak at the hearing or to inquire as to whether or not a hearing will be held. The last day to pre-register in advance to speak at the hearing will be January 23, 2015. Additionally, requests to speak will be taken the day of the hearing at the hearing registration desk, although preferences on speaking times may not be able to be fulfilled. Please refer to the proposal for the more detailed information on the public hearing.

FOR FURTHER INFORMATION CONTACT: For questions about the proposed rule for Brick and Structural Clay Products Manufacturing and Clay Ceramics Manufacturing, contact Ms. Sharon Nizich, Minerals and Manufacturing Group, Sector Policies and Program Division (D243-04), Office of Air Quality Planning and Standards, U.S. Environmental Protection Agency, Research Triangle Park, North Carolina 27711; Telephone number: (919) 541-2825; Fax number: (919) 541-5450; Email address: nizich.sharon@epa.gov.

SUPPLEMENTARY INFORMATION:

After considering a request to extend the public comment period, the EPA has decided to extend the public comment period for an additional 30 days. Therefore, the public comment period will end on March 19, 2015, rather than February 17, 2015. This extension will help ensure that the public has sufficient time to review the proposed rule and the supporting technical documents and data available in the docket.

Dated: December 23, 2014.
Mary E. Henigin,
Acting Director, Office of Air Quality Planning and Standards.

[FR Doc. 2014-30715 Filed 12-30-14; 8:45 am]

BILLING CODE 6560-50-P